DEPARTMENT OF AGRICULTURE

Animal and Plant Health Inspection Service

[Docket No. 00-025-1]

Commodity Pest Risk Analysis Process; Public Meeting

AGENCY: Animal and Plant Health Inspection Service, USDA.

ACTION: Notice of public meeting.

SUMMARY: This is to notify importers and exporters of fruits and vegetables, as well as other interested persons, that the Plant Protection and Quarantine program of the Animal and Plant Health Inspection Service will be hosting a symposium to discuss issues related to its commodity pest risk analysis process. The symposium will include presentations to exchange information with the public on the current “state of the art” in risk assessment methodology, the Agency's obligations under international trade agreements, and the status of our ongoing process improvement efforts, and will provide opportunities for interested persons to offer comments and suggestions for improving our current commodity pest risk analysis process.

DATES: The symposium will be held on Thursday, May 18, 2000, from 8:30 a.m. to 4:30 p.m., and Friday, May 19, 2000, from 8:30 a.m. to 2 p.m.

ADDRESSES: The symposium will be held in the USDA Center at Riverside, 4700 River Road, Riverdale, MD. Travel directions to the USDA Center at Riverside are available on the Internet at http://www.aphis.usda.gov/mb/mrphr/aphismap.html. Picture identification is required to gain access to the building. Parking is available next to the building for a $2 fee (please have quarters or $1 bills available). The nearest Metro station is the College Park station on the Green Line, which is within walking distance.

FOR FURTHER INFORMATION CONTACT: Ms. Meredith C. Jones, Regulatory Coordination Specialist, PPQ, APHIS, 4700 River Road Unit 141, Riverdale, MD 20737-1236; telephone (301) 734-7467, fax (301) 734-8693, or e-mail Meredith C. Jones@usda.gov.

SUPPLEMENTARY INFORMATION:

Background

On October 8, 1999, we published a notice in the Federal Register (64 FR 54859-54860, Docket No. 99-079-1) in which we solicited comments from the public regarding several recommendations made in a report on the Animal and Plant Health Inspection Service's (APHIS') Plant Protection and Quarantine safeguarding system. Specifically, we sought comments on several issues related to the commodity pest risk analysis process used by the Plant Protection and Quarantine programs and stated that we would use the information provided in the comments as we considered options to improve public involvement in the process and public access to information about new and pending pest risk analyses. In our October 1999 notice, we also stated that we were considering convening a symposium to review and discuss the existing international standards for pest risk analysis and the current “state of the art” relative to conducting pest risk analyses. We are publishing this notice to inform the public as to the dates and location, as well as a draft agenda, for the symposium.

The symposium will be held on May 18 and 19, 2000, at the USDA Center at Riverside in Riverdale, MD (see the DATES and ADDRESSES sections at the beginning of this notice for more specific information regarding the location of the symposium and each day's start and finish times). While we are still working to finalize the agenda for the symposium, we have identified the following areas that we expect to cover during the two days:

Day One—May 18, 2000

• Introductory remarks; purpose and objectives of the symposium.

• Overview of risk analysis within APHIS.

• Legal issues; risk analysis under the Sanitary and Phytosanitary Agreements (obligations, challenges, international standards, risk analysis in other countries).

• Present use of qualitative and quantitative methods (probabilistic risk assessments, qualitative risk assessments, uncertainty).

• External perspectives (industry views, transparency, stakeholder input).

• Breakout sessions to allow for open dialog between APHIS and the public.

Day Two—May 19, 2000

• Safeguard report recommendations.

• Report from APHIS Process Improvement Team (pest risk assessment process update and addressing the backlog of assessments, including electronic access initiatives).

• Three discussion groups (stakeholder input, levels and types of risk assessments, and public access), each led by an APHIS facilitator.

• Reports from discussion groups and open discussion period.

• Conclusion (summary of information gathered and closing remarks).

We will use the information gathered during the presentations, breakout sessions, and group discussions as we consider options for increasing the level of public involvement in our commodity pest risk analysis process and providing the public with access to information on new and pending pest risk analyses.

Registration Information

There is no fee to register for the symposium. On-site registration will be available at the symposium, but we recommend that you register in advance, as attendance may be limited due to space considerations. An advance registration form is available on the Internet at http://www.aphis.usda.gov/ppq. You may also register in advance for the symposium by providing your name, address, telephone number, and organization to the person listed under FOR FURTHER INFORMATION CONTACT. If you are registering in advance, we ask that you submit your registration by May 12, 2000.

Done in Washington, DC, this 14th day of April 2000.
Bobby R. Acord,
Acting Administrator, Animal and Plant Health Inspection Service.

[FR Doc. 00-9792 Filed 4-18-00; 8:45 am]

BILLING CODE 3410-34-U